NUCLEAR REGULATORY COMMISSION

Sunshine Act Meeting

agency holding the meetings: Nuclear Regulatory Commission.

date: Weeks of July 11, 18, 25, August 1, 8, 15, 2005.

place: Commissioners' Conference Room, 11555 Rockville Pike, Rockville, Maryland.

status: Public and Closed.

matters to be considered:

Week of July 11, 2005

There are no meetings scheduled for the week of July 11, 2005.

Week of July 18, 2005—Tentative

There are no meetings scheduled for the week of July 18, 2005.

Week of July 25, 2005—Tentative

Thursday, July 28, 2005

1:30 p.m.—Discussion of Security Issues (Closed—Ex. 1).

Week of August 1, 2005—Tentative

There are no meetings scheduled for the week of August 1, 2005.

Week of August 8, 2005—Tentative

There are no meetings scheduled for the week of August 8, 2005.

Week of August 15, 2005—Tentative

Tuesday, August 16, 2005

10 a.m.—Meeting with the Organization of Agreement States (OAS) and the Conference of Radiation Control Program Directors (CRCPD) (Public Meeting). (Contact: Shawn Smith, (301) 415-2620.)

This meeting will be webcast live at the Web address. http://www.nrc.gov.

1 p.m.—Discussion of Security Issues (Closed—Ex. 1).

* The schedule for Commission meetings is subject to change on short notice. To verify the status of meetings call (recording)—(301) 415-1292. Contact person for more information: Michelle Schroll, (301) 415-1662.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

This notice is distributed by mail to several hundred subscribers: if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: July 11, 2005.
R. Michelle Schroll,
Office of the Secretary.

[FR Doc. 05-13722 Filed 7-8-05; 9:58 am]

BILLING CODE 7590-01-M